DEPARTMENT OF AGRICULTURE

Food and Nutrition Service

Agency Information Collection Activities: Proposed Collection; Comment Request—USDA Foods in Schools Cost Dynamics

AGENCY: Food and Nutrition Service (FNS), USDA.

ACTION: Notice.

SUMMARY: In accordance with the Paperwork Reduction Act of 1995, the Food and Nutrition Service (FNS) invites the general public and other public agencies to comment on this proposed information collection. This is a new collection for a study of USDA Foods in Schools Cost Dynamics.

DATES: Written comments on this notice must be received on or before March 2, 2015.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Dennis Ranalli, Policy Analyst, Office of Policy Support, Food and Nutrition Service, U.S. Department of Agriculture, 3101 Park Center Drive, Room 1014, Alexandria, VA 22302. Comments may also be submitted via fax to the attention of Dennis Ranalli at 703-305-2576 or via email to dennis.ranalli@fns.usda.gov. Comments will also be accepted through the Federal eRulemaking Portal. Go to http://www.regulations.gov, and follow the online instructions for submitting comments electronically.

All written comments will be open for public inspection at the office of the Food and Nutrition Service during regular business hours (8:30 a.m. to 5 p.m., Monday through Friday) at 3101 Park Center Drive, Room 1014, Alexandria, Virginia 22301.

All responses to this notice will be summarized and included in the request for Office of Management and Budget approval. All comments will be a matter of public record.

FOR FURTHER INFORMATION CONTACT: Requests for additional information should be directed to Dennis Ranalli at 703-305-2149.

SUPPLEMENTARY INFORMATION: Title: USDA Foods in Schools Cost Dynamics.

Form Number: N/A.

OMB Number: Not yet assigned.

Expiration Date: Not yet determined.

Type of Request: New collection.

Abstract

USDA Foods play an important role in school meals and may contribute up to 20% of the foods served in school meals through the National School Lunch Program (NSLP). States and School Food Authorities (SFAs) receive a USDA Foods entitlement to acquire products offered through the USDA Foods program. USDA Foods can be directly delivered from USDA's vendor to state warehouses, distributors, buying cooperatives, or SFAs. Fruits and vegetables can be requisitioned through the Department of Defense (DoD) Fresh Fruit and Vegetable Program. Bulk USDA Foods can be sent directly to a processor to create final products for use in school meals.

An SFA's costs of using USDA Foods begin with how it spends its entitlement, which is managed by State Distribution Agencies (SDAs). SFAs incur additional costs to obtain USDA Foods, for procurement, storage, distribution and administration. These functions are performed by a variety of agencies involved in this process (FNS, SDAs, storage/distribution contractors, SFAs and schools). SDAs may absorb some of these costs. Finally, the model of contracting with food processors may affect the full cost of USDA Foods to SFAs—whether the contract is a payment for final product (with a rebate or discount for the SFA) or a payment for service, i.e. for transforming the USDA Food into a final product.

While several USDA-funded studies have examined SFA food purchasing practices and have compared foods purchased by SFAs with commercial products, very little research has focused specifically on the full cost of USDA Foods used in school meals. The most recent study on this topic, and the model for the current study, is the State Commodity Distribution System study covering the 1985-86 school year.

The proposed study will examine the variety of factors that determine the cost and value of USDA Foods to local school and school district food programs. The objectives of the study are to (1) identify distribution models (including procurement, transportation, storage and delivery) used by 49 states and the District of Columbia to distribute USDA Foods to schools; (2) identify 4 to 10 procurement and distribution models that represent the state systems used in School Year (SY) 2015-16; and (3) develop cost estimates for a group of USDA Foods, full processed products made from USDA Foods, and comparable commercial products.

Affected Public: Respondent groups include: (1) State officials with responsibility for USDA Food provision and (2) directors of school food authorities.

Estimated Number of Respondents: 440-950. The proposed final samples will include State Distribution Agencies in up to 49 States and the District of Columbia, and 112-280 unique SFAs, depending on how many distribution models are studied (Kansas is excluded because it receives cash payments in lieu of USDA foods). The number studied will be determined on the basis of the results of the survey of SDAs.

Estimated Frequency of Responses per Respondent: All respondents will be asked to respond to each instrument only once.

Estimated Total Annual Responses: 440-950, depending on the number of distribution models studied.

Estimated Time per Response: 43 minutes (0.72 hours). The estimated response time varies from 5 minutes for notifications of the surveys to 360 minutes (6 hours), depending on the survey and the respondent group, as shown in the following table.

Estimated Total Annual Burden on Respondents: 308 to 693 hours.

Table 2—Threshold Interfering D/U Ratios for Wireless Base Station into DTV
Affected public | Data collection activity | Respondents | Estimated number of respondents | Frequency of response | Total annual responses | Average hours per response | Total annual burden estimate (hours)
State | Notify state officials of web survey | State education agency financial officer | 50 | 1 | 50 | 0.08 | 4
State | Self-Administered Web Survey | Non-respondents | 3 | 1 | 3 | 0.08 | 0.2
| (Administrative data on USDA Food costs) | State education agency financial officer | 47 | 1 | 47 | 1.0 | 47
State | Notify state officials of in-person interview | State education agency financial officer | 8-20 | 1 | 8-20 | 0.25 | 2-5
State | In-person interview of state distribution agency (Additional information on USDA Food costs) | State education agency financial officer | 8-20 | 1 | 8-20 | 6 | 48-120
Local and Tribal | Notify local and tribal officials of web survey | Foodservice director | 112-280 | 1 | 112-280 | 0.08 | 9.0-22.4
Local and Tribal | Self-Administered Web Survey | Non-respondents | 12-30 | 1 | 12-30 | 0.08 | 1.0-2.4
| (Administrative data on USDA Food costs) | Foodservice director | 100-250 | 1 | 100-250 | 0.75 | 75.0-187.5
| Phone Follow-up Survey | Nonrespondents | 20-50 | 1 | 20-50 | 0.08 | 1.6-4.0
| (Administrative data on USDA Food costs) | Foodservice director | 80-200 | 1 | 80-200 | 1.5 | 120-300
Grand Total |  |  | 440-950 | 1 | 440-950 | 0.72 | 308-693

Dated: December 22, 2014.
Audrey Rowe,
Administrator, Food and Nutrition Service.

[FR Doc. 2014-30492 Filed 12-29-14; 8:45 am]

BILLING CODE 3410-30-P